DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 7, 2009. Address written comments to Statutory Import Programs Staff, Room 3720, U.S. Department of Commerce, Washington, D.C. 20230. Applications may be examined between 8:30 A.M. and 5:00 P.M. at the U.S. Department of Commerce in Room 3720.

Docket Number: 09-004. Applicant: William S. Middleton VA Hospital, 2500 Overlook Terrace, Madison, WI 53705. Instrument: Electron Microscope. Manufacturer: Hitachi High Technologies Corporation, Japan. Intended Use: The instrument will be used to examine human tissues with significant pathological changes and experimentally manipulated animal tissues. Justification for Duty-Free Entry: No U.S.-made instruments of same general category. Application accepted by Commissioner of Customs: February 13, 2009.

Docket Number: 09-006. Applicant: Bergen County Technical Schools/Bergen County Academies, 200 Hackensack Avenue, Hackensack, NJ 07601. Instrument: Transmission Electron Microscope. Manufacturer: JEOL Ltd., Japan. Intended Use: The instrument will be used to explore nanoscale materials and phenomena. Justification for Duty-Free Entry: No comparable instrument manufactured domestically. Application accepted by Commissioner of Customs: February 26, 2009.

Dated: March 11, 2009.
Chris Cassel,
Acting Director,
IA Subsidies Enforcement Office.

[FR Doc. E9-5893 Filed 3-17-09; 8:45 am]

BILLING CODE 3510-DS-S